DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Quarterly Financial Report (QFR) Program.

OMB Control Number: 0607-0432.

Form Number(s): QFR-200(MT), QFR-201(MG), QFR-300(S).

Type of Request: Revision of a currently approved collection.

Burden Hours: 115,111.

Number of Respondents: 12,574.

Average Hours per Response: 2 hours and 17 minutes.

Needs and Uses: The QFR program has published up-to-date aggregate statistics on the financial results and position of U.S. corporations since 1947. The program currently collects and publishes financial data for the manufacturing, mining, wholesale trade, retail trade, information, and professional, scientific, and technical services (except legal) sectors. The survey is a principal economic indicator that provides financial data essential to calculation of key U.S. Government measures of national economic performance. The importance of this data collection is reflected by the granting of specific authority to conduct the program in Title 13 of the United States Code, Section 91, which requires that financial statistics of business operations be collected and published quarterly. Public Law 109-79, Section 91 extended the authority of the Secretary of Commerce to conduct the QFR program through September 30, 2015.

The QFR is planning to expand the scope of collection to include, along with corporations currently surveyed, additional service sectors. The expanded collection will include the real estate and rental and leasing (except lessors of nonfinancial intangible assets), administrative and support and waste management and remediation services, health care and social assistance, and accommodation and food services. We plan to begin collecting data for these service sectors beginning with the collection of data for fourth quarter of 2012. Services represent the largest block of industries in the Gross Domestic Product (GDP), about 55 percent of the economy. By expanding into these four service sectors, the QFR program can begin providing statistics on the financial results and position for important parts of the economy for which no current and systematically collected data are now available.

The survey forms used to conduct the QFR are: QFR-200 (MT) Long Form (manufacturing, mining, wholesale trade, and retail trade); QFR-201 (MG) Short Form (manufacturing); and the QFR-300 (S) Long Form (services).

Affected Public: Business or other for-profit.

Frequency: Quarterly.

Respondent's Obligation: Mandatory.

Legal Authority: Title 13 U.S.C., Section 91.

OMB Desk Officer: Brian Harris-Kojetin, (202) 395-7314.

Copies of the above information collection proposal can be obtained by calling or writing Jennifer Jessup, Departmental Paperwork Clearance Officer, (202) 482-0336, Department of Commerce, Room 6616, 14th and Constitution Avenue NW., Washington, DC 20230 (or via the Internet at jjessup@doc.gov).

Written comments and recommendations for the proposed information collection should be sent within 30 days of publication of this notice to Brian Harris-Kojetin, OMB Desk Officer either by fax (202-395-7245) or email (bharrisk@omb.eop.gov).

Dated: April 17, 2012.
Glenna Mickelson,
Management Analyst, Office of the Chief Information Officer.

[FR Doc. 2012-9734 Filed 4-23-12; 8:45 am]

BILLING CODE 3510-07-P